INTERNATIONAL TRADE COMMISSION

[USITC SE-23-057]

Sunshine Act Meetings

Agency Holding the Meeting: United States International Trade Commission.

TIME AND DATE: December 8, 2023 at 11:00 a.m.

PLACE: Room 101, 500 E Street SW, Washington, DC 20436, Telephone: (202) 205-2000.

STATUS: Open to the public.

MATTERS TO BE CONSIDERED:

1. Agendas for future meetings: none.

2. Minutes.

3. Ratification List.

4. Commission vote on Inv. Nos. 701-TA-699-702 and 731-TA-1659-1660 (Preliminary) (Frozen Warmwater Shrimp from Ecuador, India, Indonesia, and Vietnam). The Commission currently is scheduled to complete and file its determinations on December 11, 2023; views of the Commission currently are scheduled to be completed and filed on December 18, 2023.

5. Commission vote on Inv. Nos. 701-TA-253 and 731-TA-132, 252, 271, 273, 532-534, and 536 (Fifth Review) (Circular Welded Pipe and Tube (CWP) from Brazil, India, Mexico, South Korea, Taiwan, Thailand, Turkey). The Commission currently is scheduled to complete and file its determinations and views of the Commission on December 28, 2023.

6. Outstanding action jackets: none.

CONTACT PERSON FOR MORE INFORMATION: Sharon Bellamy, Supervisory Hearings and Information Officer, 202-205-2000.

The Commission is holding the meeting under the Government in the Sunshine Act, 5 U.S.C. 552(b). In accordance with Commission policy, subject matter listed above, not disposed of at the scheduled meeting, may be carried over to the agenda of the following meeting.

By order of the Commission.
Issued: November 29, 2023.
Sharon Bellamy,
Supervisory Hearings and Information Officer.

[FR Doc. 2023-26529 Filed 11-29-23; 11:15 am]

BILLING CODE 7020-02-P